DEPARTMENT OF ENERGY

Federal Energy Regulatory Commission

[Project No. 10934-000]

William B. Ruger, Jr.; Notice of Existing Licensee's Failure To File Notice of Intent To File a Subsequent License Application

By April 30, 2016, William B. Ruger, Jr., the existing licensee for the Sugar River II Project No. 10934 was required to file a notice of intent to file an application for a subsequent license. The existing license for Project No. 10934 expires on April 30, 2021.

The 200-kilowatt (kW) project is located on the Sugar River in Sullivan County, New Hampshire. No federal lands are affected.

The principal project works consist of: (1) A 44-foot-long, 10-foot-high concrete dam; (2) a 1.4-acre impoundment; (3) a rectangular intake; (4) a 650-foot-long, 7-foot diameter steel penstock; (5) a powerhouse containing one 200-kW turbine-generator unit; (6) a 75-foot-long transmission line; and (7) appurtenant facilities.

Pursuant to section 16.19(b) of the Commission's regulations, an existing licensee with a minor license or a license for a minor part of a hydroelectric project must file a notice of intent pursuant to section 16.6(b).

Pursuant to section 16.6(b) of the Commission's regulations, in order to notify the Commission whether or not a licensee intends to file an application for new license, the licensee must file with the Commission a letter that contains an unequivocal statement of the licensee's intention to file or not to file an application for a new license.

William B. Ruger, Jr. has not filed a notice of intent to file an application for a subsequent license for this project.

Pursuant to section 16.23(b) of the Commission's regulations, an existing licensee of a water power project that fails to file a notice of intent pursuant to section 16.6(b) shall be deemed to have filed a notice of intent indicating that it does not intend to file an application for subsequent license.

Pursuant to section 16.20 of the Commission's regulations, applications for subsequent license (except from the existing licensee which is prohibited from filing) must be filed with the Commission at least 24 months prior to the expiration of the existing license. Applications for license for this project must be filed by April 30, 2019. Questions concerning this notice should be directed to Steve Kartalia at (202) 502-6131 or Stephen.Kartalia@ferc.gov.

Dated: May 9, 2016.
Kimberly D. Bose,
Secretary.

[FR Doc. 2016-11437 Filed 5-13-16; 8:45 am]

BILLING CODE 6717-01-P